NATIONAL TRANSPORTATION SAFETY BOARD

Meeting Agenda

Time and Date: 9:30 a.m., Tuesday, December 4, 2007.

Place: NTSB Conference Center, 429 L'Enfant Plaza SW., Washington, DC 20594.

Status: The two items are open to the public.

Matters to be Considered:

7772A Aircraft Accident Report—Inflight Cargo Fire, United Parcel Service Company Flight 1307, McDonnell Douglas DC-8-71F, N748UP, Philadelphia, Pennsylvania, February 7, 2006.

7949 Highway Accident Brief and Safety Recommendation Letters—Rear-End Chain Reaction Collision, Interstate 94 East, Near Chelsea, Michigan, July 16, 2004.

News Media Contact: Telephone (202) 314-6100.

Individuals requesting specific accommodations should contact Chris Bisett at (202) 314-6305 by Friday, November 30, 2007.

The public may view the meeting via a live or archived Webcast by accessing a link under “News & Events” on the NTSB home page at http://www.ntsb.gov.

For Further Information Contact: Vicky D'Onofrio, (202) 314-6410.

Dated: November 23, 2007.
Candi R. Bing,
Federal Register Liaison Officer.

[FR Doc. 07-5871 Filed 11-27-07; 8:45 am]

BILLING CODE 7533-01-M